DEPARTMENT OF ENERGY

Notice of Availability of Draft Section 3116 Basis for Determination for Closure of H Tank Farm at the Savannah River Site

AGENCY: U.S. Department of Energy.

ACTION: Notice of availability.

SUMMARY: The Department of Energy (DOE) announces the availability of the Draft Section 3116 Basis for Determination for Closure of the H Tank Farm at the Savannah River Site (Draft HTF 3116 Basis Document) for public comment. DOE prepared the Draft HTF 3116 Basis Document pursuant to section 3116(a) of the Ronald W. Reagan National Defense Authorization Act for Fiscal Year 2005 (NDAA), which provides that the Secretary of Energy may, in consultation with the U.S. Nuclear Regulatory Commission (NRC), determine that certain waste from reprocessing of spent nuclear fuel is not high-level radioactive waste if the provisions set forth in section 3116(a) are satisfied. To make this determination, the Secretary of Energy must determine that the waste in the HTF: (1) Does not require permanent isolation in a deep geologic repository for spent fuel or high-level radioactive waste; (2) has had highly radioactive radionuclides removed to the maximum extent practical; and (3)(A) does not exceed concentration limits for Class C low-level waste and will be disposed of in compliance with the performance objectives in 10 CFR Part 61, Subpart C and pursuant to a State approved closure plan or State-issued permit; or (3)(B) exceeds concentration limits for Class C low-level waste but will be disposed of in compliance with the performance objectives of 10 CFR Part 61, Subpart C; pursuant to a State approved closure plan or State-issued permit; and pursuant to plans developed by DOE in consultation with the NRC. Although not required by the NDAA, DOE is making the Draft HTF 3116 Basis Document available for public comment. The Draft HTF 3116 Basis Document demonstrates that the cleaned and stabilized HTF tanks, ancillary structures and their stabilized residuals at HTF closure meet the public dose limits and other criteria in section 3116. DOE is consulting with the NRC and will consider public comments before preparing a final HTF 3116 Basis Document and issuing a Secretarial determination under section 3116.

DATES: The comment period will end on May 1, 2013. Comments received after this date will be considered to the extent practicable.

ADDRESSES: The Draft HTF Section 3116 Basis document is available on the Internet at http://sro.srs.gov/f_htankfarmsdocuments.htm.

Written comments on the draft HTF Section 3116 Basis document may be submitted by U.S. mail to the following address: Ms. Sherri Ross, DOE-SR, Building 704-S, Room 43, U.S. Department of Energy, Savannah River Operations Office, Aiken, SC 29802 (ATTN: H-Tank Farm Draft Basis).

Alternatively, comments may also be filed electronically by email to sherri.ross@srs.gov, or by Fax at (803) 208-7414.

SUPPLEMENTARY INFORMATION: The HTF is a 45-acre site, located at the Savannah River Site (SRS) near Aiken, South Carolina. The HTF consists of 29 underground radioactive waste storage tanks and supporting ancillary structures. The major HTF ancillary structures are three evaporator systems, transfer lines, eight diversion boxes, one catch tank, a concentrate transfer system, ten pump pits, nine pump tanks, and eleven valve boxes. There are four waste tank types (Type I, II, III/IIIA, and IV) in HTF with operating capacities ranging from 750,000 gallons to 1,300,000 gallons. The waste tanks have varying degrees of secondary containment and in-tank structural features such as cooling coils and columns. All HTF waste tanks are constructed of carbon steel. The HTF tanks and ancillary structures contain, in part, waste from the prior reprocessing of spent nuclear fuel, and from various SRS production, processing and laboratory facilities.

DOE is in the process of closing the HTF and is engaged in an expansive campaign to clean, stabilize, and close the tanks and ancillary structures in the HTF, using a process that includes removing bulk waste from tanks and applicable ancillary structures, followed by deployment of tested technologies to remove the majority of the remaining waste. After completing cleaning operations, a small amount of residual radioactive waste will remain in the tanks and ancillary structures. DOE plans to stabilize the residuals in the tanks and certain ancillary structures in place with grout, followed by a closure cap system for the HTF. Tank waste storage and removal operations in the HTF are governed by a South Carolina Department of Health and Environmental Control (SCDHEC) industrial wastewater operating permit. Removal of tanks from service and stabilization of the HTF waste tanks and ancillary structures will be carried out pursuant to a State-approved closure plan, the Industrial Wastewater General Closure Plan for H-Area Waste Tank Systems. Specific Closure Modules for each tank or ancillary structure or groupings of tanks and ancillary structures will be developed and submitted to SCDHEC for approval. After SCDHEC approval of the specific and final closure configuration documentation and grouting, the applicable tank or ancillary structure will be removed from the State's industrial wastewater permit. Where appropriate, the Draft HTF 3116 Basis Document draws upon DOE's experience in cleaning and closing tanks at the similar F-Area Tank Farm at SRS, for which the Secretary of Energy issued a Section 3116 Determination in March 2012.

As demonstrated and documented in the Draft HTF 3116 Basis Document, the stabilized HTF tanks, ancillary structures and residuals at closure meet the public dose performance objective and other criteria set forth in section 3116(a) of the NDAA. DOE is consulting with the NRC pursuant to section 3116, and will consider this consultation as well as public comments before preparing a final HTF 3116 Basis Document. DOE anticipates that the final HTF 3116 Basis Document will serve as a predicate for the Secretary to determine whether or not the stabilized HTF tanks, ancillary structures and residuals at closure meet the criteria in section 3116(a), are not high-level radioactive waste, and may be disposed of in place as low-level waste.

Issued in Washington, DC, on February 6, 2013.
Mark A. Gilbertson,
Deputy Assistant Secretary for Site Restoration.

[FR Doc. 2013-03305 Filed 2-12-13; 8:45 am]

BILLING CODE P